DEPARTMENT OF DEFENSE

GENERAL SERVICES ADMINISTRATION

NATIONAL AERONAUTICS AND SPACE ADMINISTRATION

[OMB Control No. 9000-0010; Docket No. 2021-0053; Sequence No. 8]

Submission for OMB Review; Progress Payments (SF 1443)

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve an extension of a previously approved information collection requirement regarding progress payments (SF 1443).

DATES: Submit comments on or before August 12, 2021.

ADDRESSES: Written comments and recommendations for this information collection should be sent within 30 days of publication of this notice to www.reginfo.gov/public/do/PRAMain. Find this particular information collection by selecting “Currently under Review—Open for Public Comments” or by using the search function.

Additionally, submit a copy to GSA through http://www.regulations.gov and follow the instructions on the site. This website provides the ability to type short comments directly into the comment field or attach a file for lengthier comments.

Instructions: All items submitted must cite OMB Control No. 9000-0010, Progress Payments (SF 1443). Comments received generally will be posted without change to http://www.regulations.gov, including any personal and/or business confidential information provided. To confirm receipt of your comment(s), please check www.regulations.gov, approximately two-to-three days after submission to verify posting. If there are difficulties submitting comments, contact the GSA Regulatory Secretariat Division at 202-501-4755 or GSARegSec@gsa.gov.

FOR FURTHER INFORMATION CONTACT: Ms. Zenaida Delgado, Procurement Analyst, at telephone 202-969-7207, or email zenaida.delgado@gsa.gov.

SUPPLEMENTARY INFORMATION:

A. OMB Control Number, Title, and any Associated Form(s)

9000-0010, Progress Payments (SF 1443), Standard Form 1443, Contractor's Request for Progress Payment.

B. Need and Uses

This clearance covers the information that contractors must submit to comply with the following Federal Acquisition Regulation (FAR) requirements:

• FAR 52.232-16, Progress Payments, and Standard Form (SF) 1443, Contractor's Request for Progress Payment.

Paragraph (g) of this FAR clause requires contractors to furnish reports, certificates, financial statements, and other pertinent information (including estimates to complete) reasonably requested by contracting officers for the administration of fixed-price contracts under which the Government will provide progress payments based on costs. Each request for progress payment shall be submitted on a SF 1443.

Contracting officers use this information to administer progress payments under a contract. This collection of information is necessary for protection of the Government against financial loss through making of progress payments.

C. Annual Burden

Respondents: 11,804.

Total Annual Responses: 377,728.

Total Burden Hours: 158,646.

D. Public Comment

A 60-day notice was published in the Federal Register at 86 FR 22207, on April 27, 2021. No comments were received.

Obtaining Copies: Requesters may obtain a copy of the information collection documents from the GSA Regulatory Secretariat Division, by calling 202-501-4755 or emailing GSARegSec@gsa.gov. Please cite OMB Control No. 9000-0010, Progress Payments (SF 1443).

Janet Fry,
Director, Federal Acquisition Policy Division, Office of Governmentwide Acquisition Policy, Office of Acquisition Policy, Office of Governmentwide Policy.

[FR Doc. 2021-14852 Filed 7-12-21; 8:45 am]

BILLING CODE 6820-EP-P